DEPARTMENT OF HOMELAND SECURITY

Federal Emergency Management Agency

[Docket ID FEMA-2019-0002; Internal Agency Docket No. FEMA-B-1901]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
California:
Placer | Unincorporated Areas of Placer County (18-09-2198P) | The Honorable Jim Holmes, Chairman, Board of Supervisors, Placer County, 175 Fulweiler Avenue, Auburn, CA 95603 | Placer County Department of Public Works, 3091 County Center Drive, Suite 220, Auburn, CA 95603 | https://msc.fema.gov/portal/advanceSearch | Apr. 8, 2019 | 060239
Sacramento | City of Sacramento (17-09-2500P) | The Honorable Darrell Steinberg, Mayor, City of Sacramento, City Hall, 915 I Street, 5th Floor, Sacramento, CA 95814 | Department of Utilities Stormwater Program Management, 1395 35th Avenue, Sacramento, CA 95822 | https://msc.fema.gov/portal/advanceSearch | Mar. 25, 2019 | 060266
Sacramento | Unincorporated Areas of Sacramento County (17-09-2500P) | The Honorable Susan Peters, Chair, Board of Supervisors, Sacramento County, 700 H Street, Suite 2450, Sacramento, CA 95814 | Sacramento County Department of Water Resources, 827 7th Street, Suite 301, Sacramento, CA 95814 | https://msc.fema.gov/portal/advanceSearch | Mar. 25, 2019 | 060262
Michigan:
Macomb | City of Sterling Heights (18-05-4204P) | The Honorable Michael C. Taylor, Mayor, City of Sterling Heights, P.O. Box 8009, Sterling Heights, MI 48311 | City Hall, 40555 Utica Road, Sterling Heights, MI 48311 | https://msc.fema.gov/portal/advanceSearch | Mar. 21, 2019 | 260128
Ottawa | City of Hudsonville (18-05-4330P) | The Honorable Mark Northrup, Mayor, City of Hudsonville, 3275 Central Boulevard, Hudsonville, MI 49426 | City Hall, 3275 Central Boulevard, Hudsonville, MI 49426 | https://msc.fema.gov/portal/advanceSearch | Mar. 28, 2019 | 260493
Oregon: Benton | Unincorporated Areas of Benton County (18-10-0715P) | The Honorable Xanthippe Augerot, Chair, Benton County, Board of Commissioners, P.O. Box 3020, Corvallis, OR 97339 | Benton County Sheriff's Office, 180 Northwest 5th Street, Corvallis, OR 97333 | https://msc.fema.gov/portal/advanceSearch | Mar. 28, 2019 | 410008
Texas:
Hays | City of San Marcos (18-06-1845P) | The Honorable John Thomaides, Mayor, City of San Marcos, San Marcos City Hall, 630 East Hopkins Street, San Marcos, TX 78666 | Engineering Department City Hall, 630 East Hopkins Street, San Marcos, TX 78666 | https://msc.fema.gov/portal/advanceSearch | Apr. 4, 2019 | 485505
Hays | Unincorporated Areas of Hays County (18-06-1845P) | The Honorable Bert Cobb, M.D., County Judge, Hays County, Hays County Courthouse, 111 East San Antonio Street, Suite 300, San Marcos, TX 78666 | Hays County, Development Services Department, 2171 Yarrington Road, San Marcos, TX 78666 | https://msc.fema.gov/portal/advanceSearch | Apr. 4, 2019 | 480321
Virginia: Fairfax | Unincorporated Areas of Fairfax County (18-03-1394P) | The Honorable David L. Meyer, Mayor, Fairfax County, 10455 Armstrong Street, Fairfax, VA 22030 | Fairfax County, Stormwater Planning, 12000 Government Center Parkway, Suite 449, Fairfax, VA 22035 | https://msc.fema.gov/portal/advanceSearch | Apr. 9, 2019 | 515525
Washington:
Pierce | City of Puyallup (18-10-0841P) | The Honorable John Palmer, Mayor, City of Puyallup, Puyallup City Hall, 333 South Meridian, Puyallup, WA 98371 | City Hall, 333 South Meridian, Puyallup, WA 98371 | https://msc.fema.gov/portal/advanceSearch | Apr. 4, 2019 | 530144
Pierce | Unincorporated Areas of Pierce County (18-10-0476P) | Mr. Bruce Dammeier, County Executive, Pierce County, 930 Tacoma Avenue South, Room 737, Tacoma, WA 98402 | Pierce County Annex Building, 2401 South 35th Street, Tacoma, WA 98409 | https://msc.fema.gov/portal/advanceSearch | Mar. 27, 2019 | 530138
Wisconsin:
Winnebago | City of Oshkosh (18-05-2015P) | The Honorable Steve Cummings, Mayor, City of Oshkosh, City Hall, P.O. Box 1130, Oshkosh, WI 54903 | City Hall, 215 Church Avenue, Oshkosh, WI 54903 | https://msc.fema.gov/portal/advanceSearch | Mar. 27, 2019 | 550511
Winnebago | Unincorporated Areas of Winnebago County (18-05-2015P) | Mr. Mark Harris, Executive, Winnebago County, County Courthouse, 415 Jackson Street, Oshkosh, WI 54901 | Winnebago County Zoning Department, 448 Algoma Boulevard, Oshkosh, WI 54901 | https://msc.fema.gov/portal/advanceSearch | Mar. 27, 2019 | 550537

[FR Doc. 2019-01934 Filed 2-11-19; 8:45 am]

BILLING CODE 9110-12-P